NUCLEAR REGULATORY COMMISSION

[Docket No. 70-1374; NRC-2022-0032]

Idaho State University

AGENCY: Nuclear Regulatory Commission.

ACTION: License renewal; issuance.

SUMMARY: The U.S. Nuclear Regulatory Commission (NRC) has renewed Special Nuclear Materials (SNM) License No. SNM-1373, to Idaho State University (ISU, the licensee) located in Pocatello, Idaho. The renewed license authorizes ISU to continue to possess and use SNM for a period of 10 years and will expire on January 5, 2033.

DATES: License No. SNM-1373 was issued on January 6, 2023, and is effective as of the date of issuance.

ADDRESSES: Please refer to Docket ID NRC-2022-0032 when contacting the NRC about the availability of information regarding this document. You may obtain publicly available information related to this document using any of the following methods:

• Federal Rulemaking website: Go to https://www.regulations.gov and search for Docket ID NRC-2022-0032. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Osiris Siurano-Pérez, Office of Nuclear Material Safety and Safeguards, U.S. Nuclear Regulatory Commission, Washington, DC 20555-0001, telephone: 301-415-7827, email: Osiris.Siurano-Perez@nrc.gov.

SUPPLEMENTARY INFORMATION:

I. Background

ISU is a public research university in Pocatello, Idaho. ISU possesses and uses SNM, under this license primarily for instructional purposes in senior and graduate-level laboratory courses. The quantity of SNM possessed and used by ISU requires an NRC-issued SNM license pursuant to part 70 of title 10 of the Code of Federal Regulations (10 CFR), “Domestic licensing of special nuclear material.”

II. Discussion

Pursuant to section 2.106 of 10 CFR, the NRC is providing notice of the issuance of renewal of a 10 CFR part 70 license, SNM-1373, to ISU in Pocatello, Idaho. The license authorizes ISU to possess and use SNM for education, research, and training programs in senior and graduate-level laboratory courses at its Pocatello campus. ISU's original license renewal application for a 10-year license was made by letter dated July 9, 2021. The term of ISU's license expired on August 11, 2021. The NRC staff performed an acceptance review of ISU's application and determined that it did not contain sufficient technical information to proceed with its detailed technical review. The NRC staff discussed its findings during a call with ISU on September 8, 2021. Following the call, by letter dated September 9, 2021, the NRC staff documented its findings and decision to decline to proceed with a detailed technical review and provided ISU the opportunity to supplement the application by addressing the issues discussed in the enclosure to the request for supplemental information (RSI) letter. ISU was also notified that, since it filed its license renewal application at least 30 days before the license's expiration date, pursuant to the timely renewal provisions in 10 CFR 70.38(a), ISU was permitted to continue using its SNM in accordance with the existing SNM-1373 license, pending a final decision by the Commission on the license renewal application. ISU revised and resubmitted its application to the NRC by letter dated December 6, 2021. By letter dated January 20, 2022, the NRC informed ISU of its decision to accept the application and proceed with its detailed technical review.

On February 23, 2022, a notice of receipt of ISU's license renewal application with an opportunity for the public to request a hearing and petition for leave to intervene was published in the Federal Register (87 FR 10259). The NRC did not receive a request for a hearing or for a petition for leave to intervene.

The license renewal application was subsequently supplemented by letters dated March 3, 2022, and March 24, 2022. The March 24, 2022, version of the license renewal application is a standalone document that integrates the information provided in ISU's responses to the NRC staff's requests for additional information.

The NRC staff determined that ISU's proposed licensed activities meet the categorical exclusion in 10 CFR 51.22(c)(14)(v) for the use of radioactive materials for research and development and for educational purposes. Therefore, an environmental assessment and an environmental impact statement are not required for the renewal of the SNM-1373 license.

The NRC finds that the renewed license complies with the standards and requirements of the Atomic Energy Act of 1954, as amended, and the NRC's rules and regulations as set forth in 10 CFR chapter 1. Accordingly, the renewed license issued on January 6, 2023, is effective as of the date of issuance. The NRC prepared a safety evaluation report (SER) for the renewal of License SNM-1373 and concluded that the licensee can continue to use and possess SNM in accordance with its license without endangering the health and safety of the public, and that this action will not significantly affect the quality of the human environment for the duration of the license.

III. Availability of Documents

Documents related to this action, including the license renewal application and other supporting documentation, are available to interested persons as indicated.

Document description | ADAMS accession No.
License Renewal Application (Initial), dated July 9, 2021 | ML21190A251 (package).
Request for Supplemental Information, dated September 9, 2021 | ML21246A164 (package).
ISU Response to Request for Supplemental Information, Dated December 6, 2021 | ML21351A166 (package).
Request for Additional Information, dated February 7, 2022 | ML22033A444.
Acceptance of ISU's License Renewal Application, dated January 20, 2022 | ML22018A285.
ISU Response Request for Additional Information, dated March 4, 2022 | ML22075A215.
NRC Request for Clarification of Responses to the Request for Additional Information, dated March 21, 2022 | ML22081A296.
ISU Response to Request for Clarification of Responses to the Request for Additional Information, dated March 24, 2022 | ML22091A298.
ISU's Revised License Application, dated March 25, 2022 | ML22306A112.
Letter—SNM-1373 License Renewal Transmittal, dated January 6, 2023 | ML22147A069.
SER on ISU License Renewal Application, dated January 6, 2023 | ML22147A070.
October 2022 Renewed SNM-1373, dated January 6, 2023 | ML22147A071.
SER on ISU License Renewal Application (non-public, withheld pursuant to 10 CFR 2.390) | ML22147A072.
October 2022 Renewed SNM-1373 Sensitive Conditions (non-public, withheld pursuant to 10 CFR 2.390) | ML22147A073.

Dated: January 6, 2023.
For the Nuclear Regulatory Commission.
Carrie M. Safford,
Deputy Director Division of Fuel Management, Office of Nuclear Material Safety and Safeguards.

[FR Doc. 2023-00406 Filed 1-10-23; 8:45 am]

BILLING CODE 7590-01-P